FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 5, 2013.

A. Federal Reserve Bank of Minneapolis (Jacqueline G. King, Community Affairs Officer) 90 Hennepin Avenue, Minneapolis, Minnesota 55480-0291:

1. Thomas Winkels, individually and as trustee of six McNeilus Family Trusts, and Donna McNeilus, individually, all of Dodge Center, Minnesota, and Thomas Winkels; Myrlane Winkels, Dodge Center, Minnesota; Christopher Winkels, New Market, Minnesota; Sara Winkels, Dodge Center, Minnesota; and the six McNeilus Family Trusts, Dodge Center, Minnesota; comprise the Winkels and McNeilus Family Trust group, and Donna McNeilus; Justin McNeilus, Byron, Minnesota; Christina McNeilus, Dodge Center, Minnesota; and Kimberly McNeilus, Dodge Center, Minnesota; to join the McNeilus Family Shareholder Group; to acquire or retain voting shares of Sterling Financial Group, Inc., Rochester, Minnesota, and thereby indirectly acquire or retain voting shares of Sterling State Bank, Austin, Minnesota.

Board of Governors of the Federal Reserve System, January 15, 2013.
Margaret McCloskey Shanks,
Deputy Secretary of the Board.

[FR Doc. 2013-01007 Filed 1-17-13; 8:45 am]

BILLING CODE 6210-01-P